Proclamation 9877 of May 3, 2019

National Small Business Week, 2019

By the President of the United States of America

A Proclamation

During National Small Business Week, we honor America's entrepreneurs who take a risk on an idea, invest in their neighborhoods, and create jobs for others. Small business owners exemplify the American spirit by developing new ways to provide goods and services to consumers. As a Nation, we reaffirm our commitment to the free market so that American small businesses continue to thrive.

America's 30 million small businesses are central to our economy and our communities. Their courageous innovation makes our cities and towns vibrant places to live, work, and raise families. Small businesses employ almost 59 million workers, more than one-third of our country's labor force. These companies foster environments that reward problem solving and accountability, enabling workers to develop skills and valuable hands-on experience that propel their careers.

The success of our small businesses depends on leadership and vision from all perspectives and backgrounds. Approximately 10 million American small businesses are women-owned; 29 percent are minority-owned; and nearly 10 percent are veteran-owned. As our Nation continues to enjoy record low unemployment, with African-American, Hispanic-American, and Asian-American unemployment all having achieved historic lows, we recognize that much of this success is due to small businesses creating two out of every three net new jobs in our booming economy.

My Administration is a strong ally and advocate of small businesses and their ability to help America reach its full economic potential. Most small businesses are now able to deduct 20 percent from their taxable business income due to the Tax Cuts and Jobs Act. This historic legislation and other pro-growth policies of my Administration, including the elimination of unnecessary and burdensome regulations, have enabled small business owners to reinvest their profits into their businesses. Additionally, we are investing in infrastructure and cybersecurity to ensure America's entrepreneurs have the tools and technologies they need to compete in a global economy. New initiatives are making it easier for small businesses to offer healthcare coverage options that until now have been largely unaffordable. Moreover, once approved by the Congress, the United States-Mexico-Canada Agreement (USMCA) will better serve the interests of American workers and businesses, including through strong intellectual property protections that secure innovation and trade secrets. The USMCA is the first trade agreement in our Nation's history to include a chapter specifically focusing on small and medium-sized enterprises. All of these efforts to create a more friendly business environment have enabled business owners to pay bonuses, increase wages, and increase benefits—putting more money in the pockets of their workers.

This week, we celebrate the pioneering spirit, creativity, and determination upon which America has always been built. This undaunted conviction drives our entrepreneurs and small business owners, whose hard work and perseverance give our Nation economic strength. Their initiative, combined with the greatest workforce in the world, is enabling us to convert the unlimited potential of America into great wealth and prosperity.

NOW, THEREFORE, I, DONALD J. TRUMP, President of the United States of America, by virtue of the authority vested in me by the Constitution and the laws of the United States, do hereby proclaim May 5 through May 11, 2019, as National Small Business Week. I call upon all Americans to recognize the critical contributions of America's entrepreneurs and small business owners as they grow our Nation's economy.

IN WITNESS WHEREOF, I have hereunto set my hand this third day of May, in the year of our Lord two thousand nineteen, and of the Independence of the United States of America the two hundred and forty-third.

[FR Doc. 2019-09759

Filed 5-8-19; 11:15 am]

Billing code 3295-F9-P